DEPARTMENT OF TRANSPORTATION

Federal Aviation Administration

14 CFR Part 97

[Docket No. 31202; Amdt. No. 3807]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 16, 2018. The compliance date for each SIAP, associated Takeoff Minimums, and ODP is specified in the amendatory provisions.

The incorporation by reference of certain publications listed in the regulations is approved by the Director of the Federal Register as of July 16, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on June 29, 2018.
John S. Duncan,
Executive Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 16 August 2018

Deland, FL, Deland Muni-Sidney H Taylor Field, RNAV (GPS) RWY 5, Orig-B

Deland, FL, Deland Muni-Sidney H Taylor Field, RNAV (GPS) RWY 12, Orig-A

Deland, FL, Deland Muni-Sidney H Taylor Field, RNAV (GPS) RWY 23, Orig-A

Deland, FL, Deland Muni-Sidney H Taylor Field, RNAV (GPS) RWY 30, Orig-A

Easton, MD, Easton/Newnam Field, ILS OR LOC RWY 4, Amdt 2B

Easton, MD, Easton/Newnam Field, RNAV (GPS) RWY 15, Orig-B

Easton, MD, Easton/Newnam Field, RNAV (GPS) RWY 33, Orig-B

Dayton, OH, James M Cox Dayton Intl, RNAV (RNP) Y RWY 24R, Orig-C

Norwalk, OH, Norwalk-Huron County, RNAV (GPS) RWY 28, Orig-B

Martin, SD, Martin Muni, RNAV (GPS) RWY 32, Amdt 1

Effective 13 September 2018

Ambler, AK, Ambler, RNAV (GPS) RWY 1, Amdt 1A

Galena, AK, Edward G Pitka SR, RNAV (GPS) RWY 8, Amdt 3

Galena, AK, Edward G Pitka SR, RNAV (GPS) RWY 26, Amdt 3

Galena, AK, Edward G Pitka SR, Takeoff Minimums and Obstacle DP, Amdt 1

Golovin, AK, Golovin NOME TWO, Graphic DP

Golovin, AK, Golovin, RNAV (GPS) RWY 3, Amdt 1

Golovin, AK, Golovin, RNAV (GPS)-A, Amdt 1

Golovin, AK, Golovin, Takeoff Minimums and Obstacle DP, Amdt 1

Flippin, AR, Marion County Rgnl, VOR-A, Amdt 15, CANCELED

Pocahontas, AR, Pocahontas Muni, RNAV (GPS) RWY 18, Orig

Pocahontas, AR, Pocahontas Muni, RNAV (GPS) RWY 36, Orig

Pocahontas, AR, Pocahontas Muni, Takeoff Minimums and Obstacle DP, Amdt 1

Pocahontas, AR, Pocahontas Muni, VOR OR GPS RWY 36, Amdt 6, CANCELED

Fort Huachuca/Sierra Vista, AZ, Sierra Vista Muni-Libby AAF, NDB RWY 26, Amdt 4, CANCELED

San Bernardino, CA, San Bernardino Intl, ILS OR LOC Z RWY 6, Amdt 3

San Bernardino, CA, San Bernardino Intl, LOC Y RWY 6, Amdt 1

San Bernardino, CA, San Bernardino Intl, RNAV (GPS) Y RWY 6, Amdt 1

San Bernardino, CA, San Bernardino Intl, RNAV (GPS) Z RWY 6, Amdt 1

Sterling, CO, Sterling Muni, NDB RWY 33, Amdt 3B, CANCELED

DeFuniak Springs, FL, DeFuniak Springs, RNAV (GPS) RWY 9, Amdt 1A

Immokalee, FL, Immokalee Rgnl, Takeoff Minimums and Obstacle DP, Amdt 2A

Albany, GA, Southwest Georgia Rgnl, ILS OR LOC RWY 4, Amdt 13A

West Union, IA, George L Scott Muni, VOR/DME-A, Amdt 4, CANCELED

Champaign/Urbana, IL, University of Illinois-Willard, VOR RWY 4, Amdt 12A

Champaign/Urbana, IL, University of Illinois-Willard, VOR RWY 14L, Orig-B

Champaign/Urbana, IL, University of Illinois-Willard, VOR RWY 22, Amdt 8A

Chicago, IL, Chicago O'Hare Intl, Takeoff Minimums and Obstacle DP, Amdt 20D

Lawrenceville, IL, Lawrenceville-Vincennes Intl, VOR RWY 36, Amdt 1C, CANCELED

Mount Carmel, IL, Mount Carmel Muni, VOR/DME RWY 22, Amdt 10A, CANCELED

Anderson, IN, Anderson Muni-Darlington Field, NDB RWY 30, Amdt 8A

Fort Wayne, IN, Fort Wayne Intl, ILS OR LOC RWY 32, Amdt 31A

Huntington, IN, Huntington Muni, NDB RWY 9, Amdt 2, CANCELED

Jeffersonville, IN, Clark Rgnl, ILS OR LOC RWY 18, Amdt 4

Jeffersonville, IN, Clark Rgnl, NDB RWY 18, Amdt 3

Jeffersonville, IN, Clark Rgnl, RNAV (GPS) RWY 18, Amdt 1

Jeffersonville, IN, Clark Rgnl, Takeoff Minimums and Obstacle DP, Amdt 3

Richmond, IN, Richmond Muni, VOR RWY 6, Amdt 12A, CANCELED

Shelbyville, IN, Shelbyville Muni, RNAV (GPS) RWY 19, Amdt 1C

Winchester, IN, Randolph County, RNAV (GPS) RWY 8, Amdt 2

Winchester, IN, Randolph County, VOR-A, Amdt 10

Wellington, KS, Wellington Muni, RNAV (GPS) RWY 18, Amdt 2

Wellington, KS, Wellington Muni, RNAV (GPS) RWY 36, Amdt 2

Wellington, KS, Wellington Muni, Takeoff Minimums and Obstacle DP, Amdt 1

Wellington, KS, Wellington Muni, VOR RWY 18, Amdt 3

Galliano, LA, South Lafourche Leonard Miller Jr, RNAV (GPS) RWY 18, Amdt 2B

Pittsfield, ME, Pittsfield Muni, RNAV (GPS) RWY 18, Amdt 1

Pittsfield, ME, Pittsfield Muni, RNAV (GPS) RWY 36, Amdt 1

Escanaba, MI, Delta County, RNAV (GPS) RWY 1, Orig-C

Escanaba, MI, Delta County, Takeoff Minimums and Obstacle DP, Amdt 1

Escanaba, MI, Delta County, VOR RWY 1, Orig-D

Lapeer, MI, DuPont-Lapeer, VOR-A, Amdt 1

Newberry, MI, Luce County, VOR RWY 29, Amdt 12, CANCELED

Fredericktown, MO, A Paul Vance Fredericktown Rgnl, Takeoff Minimums and Obstacle DP, Amdt 1A

Vicksburg, MS, Vicksburg Muni, RNAV (GPS) RWY 1, Amdt 1B

Vicksburg, MS, Vicksburg Muni, RNAV (GPS) RWY 19, Orig-B

Asheville, NC, Asheville Rgnl, ILS OR LOC RWY 35, Orig

Asheville, NC, Asheville Rgnl, ILS OR LOC RWY 35, Orig, CANCELED

Asheville, NC, Asheville Rgnl, LOC RWY 17, Orig

Asheville, NC, Asheville Rgnl, RNAV (GPS) RWY 17, Orig

Asheville, NC, Asheville Rgnl, RNAV (GPS) RWY 17, Orig, CANCELED

Asheville, NC, Asheville Rgnl, RNAV (GPS) RWY 35, Orig

Asheville, NC, Asheville Rgnl, RNAV (GPS) RWY 35, Orig, CANCELED

Asheville, NC, Asheville Rgnl, Takeoff Minimums and Obstacle DP, Amdt 1

Tioga, ND, Tioga Muni, Takeoff Minimums and Obstacle DP, Amdt 1

Kimball, NE, Kimball Muni/Robert E Arraj Field, RNAV (GPS) RWY 28, Amdt 1C

Gallup, NM, Gallup Muni, RNAV (GPS) RWY 24, Orig-A

Buffalo, NY, Buffalo Niagara Intl, RNAV (RNP) Z RWY 23, Orig-B

New York, NY, Long Island Mac Arthur, Takeoff Minimums and Obstacle DP, Amdt 5A

Wellsville, NY, Wellsville Muni Arpt, Tarantine Fld, VOR-A, Amdt 6, CANCELED

Columbus, OH, John Glenn Columbus Intl, RNAV (RNP) Z RWY 10L, Amdt 1C

Columbus, OH, John Glenn Columbus Intl, RNAV (RNP) Z RWY 10R, Amdt 1C

Delaware, OH, Delaware Muni—Jim Moore Field, RNAV (GPS) RWY 10, Amdt 1A

Delaware, OH, Delaware Muni—Jim Moore Field, RNAV (GPS) RWY 28, Amdt 1A

London, OH, Madison County, RNAV (GPS) RWY 9, Orig-A

London, OH, Madison County, RNAV (GPS) RWY 27, Orig-A

Mount Vernon, OH, Knox County, RNAV (GPS) RWY 28, Amdt 1C

New Philadelphia, OH, Harry Clever Field, RNAV (GPS) RWY 15, Amdt 1

New Philadelphia, OH, Harry Clever Field, RNAV (GPS) RWY 33, Orig

New Philadelphia, OH, Harry Clever Field, VOR-A, Amdt 2B

Sidney, OH, Sidney Muni, RNAV (GPS) RWY 28, Amdt 1A

Steubenville, OH, Jefferson County Airpark, RNAV (GPS) RWY 32, Amdt 1A

Willard, OH, Willard, Takeoff Minimums and Obstacle DP, Amdt 2

Fairview, OK, Fairview Muni, Takeoff Minimums and Obstacle DP, Amdt 4

Tahlequah, OK, Tahlequah Muni, RNAV (GPS) RWY 35, Amdt 1A

Beaver Falls, PA, Beaver County, LOC RWY 10, Amdt 4C

St Marys, PA, St Marys Muni, LOC RWY 28, Amdt 4D

St Marys, PA, St Marys Muni, RNAV (GPS) RWY 28, Amdt 1D

St Marys, PA, St Marys Muni, Takeoff Minimums and Obstacle DP, Amdt 2A

Cleveland, TN, Cleveland Rgnl Jetport, RNAV (GPS) RWY 3, Amdt 2

Cleveland, TN, Cleveland Rgnl Jetport, RNAV (GPS) RWY 21, Amdt 2

Cleveland, TN, Cleveland Rgnl Jetport, Takeoff Minimums and Obstacle DP, Amdt 2

Austin, TX, Austin-Bergstrom Intl, ILS OR LOC RWY 35R, ILS RWY 35R SA CAT I, ILS RWY 35R SA CAT II, Amdt 4

Floydada, TX, Floydada Muni, RNAV (GPS) RWY 17, Amdt 1

Floydada, TX, Floydada Muni, RNAV (GPS) RWY 35, Amdt 1

Renton, WA, Renton Muni, Takeoff Minimums and Obstacle DP, Amdt 8A

Seattle, WA, Seattle-Tacoma Intl, Takeoff Minimums and Obstacle DP, Amdt 4B

Wheeling, WV, Wheeling Ohio Co, RNAV (GPS) RWY 34, Amdt 1A

Jackson, WY, Jackson Hole, RNAV (RNP) Y RWY 1, Amdt 1

Jackson, WY, Jackson Hole, RNAV (RNP) Y RWY 19, Amdt 2

Jackson, WY, Jackson Hole, RNAV (RNP) Z RWY 1, Amdt 1

[FR Doc. 2018-15059 Filed 7-13-18; 8:45 am]

BILLING CODE 4910-13-P